DEPARTMENT OF THE INTERIOR

Fish and Wildlife Service

Howland Island National Wildlife Refuge, Baker Island National Wildlife Refuge, and Jarvis Island National Wildlife Refuge, U.S. Territories

AGENCY: Fish and Wildlife Service, Interior.

ACTION: Notice of availability of draft comprehensive conservation plans and associated environmental assessments.

SUMMARY: We, the U.S. Fish and Wildlife Service (Service), announce the availability of the Draft Comprehensive Conservation Plans and Environmental Assessments (Draft CCPs/EAs) for public review and comments, for Howland Island National Wildlife Refuge, Baker Island National Wildlife Refuge, and Jarvis Island National Wildlife Refuge. These three national wildlife refuges are unincorporated U.S. territories located in the central Pacific Ocean, hereinafter collectively called Refuges. These Draft CCPs/EAs describe the Service's proposal for management of the Refuges over the next 15 years.

DATES: Written comments must be received at the address below by October 30, 2007.

ADDRESSES: Comments on the Draft CCPs/EAs should be addressed to: Donald Palawski, Refuge Manager, Pacific Remote Islands National Wildlife Refuge Complex, 300 Ala Moana Blvd., Room 5-231, Honolulu, HI 96717. Comments may also be submitted via electronic mail to FW1PlanningComments@fws.gov. Please use Pacific Island NWR CCPs, in the subject line.

FOR FURTHER INFORMATION CONTACT: Donald Palawski, Refuge Manager, phone number (808) 792-9560.

SUPPLEMENTARY INFORMATION: The CCPs/EAs were prepared pursuant to the National Wildlife Refuge System Administration Act of 1966, as amended by the National Wildlife Refuge System Improvement Act of 1997, and the National Environmental Policy Act of 1969 (NEPA). Proposed changes to refuge management include more frequent biological surveys, attraction of two rare seabird species to the refuges, and increased scientific research opportunities. No public uses of the Refuges are proposed.

Copies of the Draft CCPs/EAs may be obtained by writing to the U.S. Fish and Wildlife Service, Attn: Charles Pelizza, Refuge Conservation Planner, Hawaiian and Pacific Islands Refuges, c/o Oahu NWR Complex, 66-590 Kamehameha Highway, Haleiwa, HI 96712. The Draft CCPs/EAs will also be available for viewing and downloading online at http://pacific.fws.gov/planning. Copies of the Draft CCPs/EAs may be viewed at the Pacific Remote Islands National Wildlife Refuge Complex Office during the regular business working hours from 7 a.m. to 4 p.m., Monday through Friday. The office is located in the Prince Jonah Kuhio Kalanianaole Federal Building at 300 Ala Moana Blvd., Room 5-231, Honolulu, HI.

Background

The Refuges are located near the Equator between 1,300 and 1,700 nautical miles south to southwest from their administrative office in Honolulu, HI. These Refuges are part of the National Wildlife Refuge System (System) which is managed by the Service. We are developing individual Draft CCPs/EAs for each of the Refuges, however, we are developing them under one planning process, because they are part of the same ecosystem and share many of the same issues and management opportunities.

These Refuges were established in 1974, when the Secretary of the Interior transferred responsibility for the islands, and their territorial seas outward to the 3-nautical-mile limit, from the Office of Territorial Affairs to the Service. The islands range in size from 648 to 1,273 acres with total acreage for the Refuges ranging from 31,909 to 37,487 acres. The purpose for establishing the Refuges is “the restoration and preservation of the complete ecosystem, terrestrial and marine.” Special emphasis is placed on the protection, restoration, and preservation of nesting seabirds. Because of the physical characteristics of these islands, landings and access are extremely hazardous; therefore, the Refuges have been closed to public entry since establishment, to protect wildlife values and human safety.

Purpose and Need for Action

The purpose of the CCPs is to provide a coherent, integrated set of management actions to help attain the purposes and objectives of the Refuges. The CCPs identify the conservation role of the Refuges, explain the Service's proposed management actions, and provide a basis for Refuge budget requests.

Alternatives

Four alternatives for managing the Refuges for the next 15 years are identified and evaluated in the Draft CCPs/EAs. The preferred alternative in each CCP/EA is to implement Alternative B. Alternative B achieves the Refuges' purposes, and goals; contributes to the System mission; addresses significant issues and relevant mandates; and is consistent with principles of sound fish and wildlife management. The Refuges are currently closed to all public use activities and will remain closed under each alternative.

Alternative A (No Action Alternative). Alternative A provides a baseline from which to compare the action alternatives (Alternatives B, C, and D). Under Alternative A, management practices already underway or funded would continue. These activities include routine biological surveys, inspection of entrance signs, monitoring for the presence of invasive species, and collection of marine debris. Visits would occur once every 2 years and would be arranged through, and dependent upon, partner agencies and organizations, as is current practice.

Alternative B. Alternative B is the Service's preferred alternative. Under Alternative B, the frequency of the activities described in Alternative A would increase and occur annually. There would be no increase in the scope or complexity of management activities. The collection of scientific data and assessment of habitat conditions would continue to occur. Additional management activities that would occur under Alternative B include a project to attract two rare seabird species to the Refuges and a project to conduct additional marine habitat exploration.

Alternative C. This alternative includes a substantial increase in the frequency of visits, and also increases the scale and scope of management activities conducted during site visits. A Service owned or chartered research vessel, and crew members and their operational needs are required components of this alternative. Monitoring wildlife populations and habitats, restoring habitats, and other management activities could occur year-round. Year-round or seasonal field camps would be rotated among the Refuges so that a more complete understanding of annual cycles and fluctuations in wildlife populations would be possible.

Alternative D. Under Alternative D, a year-round field camp and would be rotated among the Refuges. A Service owned and operated vessel would be an integral and required component of this alternative. Surveys and monitoring activities under this alternative would provide the greatest understanding and most effective management of refuge resources. Scientific research would be encouraged and enhanced, with an opportunity for the Refuges to serve as baseline sites for global climate change research.

Public Comments

Public comments are requested, considered, and incorporated throughout the planning process. A previous notice was published in the Federal Register on September 14, 2005 (70 FR 54401) announcing the development of these Draft CCPs/EAs. After the review and comment period ends for these documents, comments will be analyzed by the Service and addressed in revised planning and NEPA documents. All comments received from individuals, including names and addresses, become part of the official public record and may be released. Requests for such comments will be handled in accordance with the Freedom of Information Act, the Council on Environmental Quality's NEPA regulations [40 CFR 1506.6(f)], and Service and Departmental policies and procedures.

Before including your address, phone number, e-mail address, or other personal identifying information in your comment, you should be aware that your entire comment—including your personal identifying information—may be made publicly available in accordance with law. While you can ask us in your comment to withhold your personal identifying information from public review, Federal public disclosure requirements may apply.

Dated: July 16, 2007.
David J. Wesley,
Acting Regional Director, Region 1, Portland, Oregon.

[FR Doc. E7-18331 Filed 9-17-07; 8:45 am]

BILLING CODE 4310-55-P